NUCLEAR REGULATORY COMMISSION

[Docket No. 50-271, NRC-2011-0168]

Vermont Yankee Nuclear Power Station; Notice of Withdrawal of Application for Amendment to Facility Operating License

The U.S. Nuclear Regulatory Commission (NRC or the Commission) has granted the request of Vermont Yankee Nuclear Power Station (the licensee) to withdraw its August 19, 2010, application for proposed amendment to Facility Operating License No. DPR-28 for the Vermont Yankee Nuclear Power Station, located in Vernon, Vermont.

The proposed amendment would have revised the Technical Specifications to be consistent with Standard Technical Specifications 3.6.1.8 “Suppression Chamber-to-Drywell Vacuum Breakers” and 3.6.2.5 “Drywell-to-Suppression Chamber Differential Pressure,” along with the associated Bases, of NUREG-1433, Revision 3, “Standard Technical Specifications General Electric Plants, BWR/4,” modified to account for plant specific design details.

The Commission had previously issued a Notice of Consideration of Issuance of Amendment published in the Federal Register on October 5, 2010 (75 FR 61525). However, by letter dated July 7, 2011, the licensee withdrew the proposed change.

For further details with respect to this action, see the application for amendment dated August 19, 2010 (Agencywide Documents and Access and Management System (ADAMS) Accession No. ML102360042), and the licensee's letter dated July 7, 2011 (Accession No. ML11193A009), which withdrew the application for license amendment. Documents may be examined, and/or copied for a fee, at the NRC's Public Document Room (PDR), located at One White Flint North, Public File Area O1 F21, 11555 Rockville Pike (first floor), Rockville, Maryland. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 18th day of July 2011.
For the Nuclear Regulatory Commission.
James Kim,
Project Manager, Plant Licensing Branch 1-1, Division of Operating Reactor Licensing, Office of Nuclear Reactor Regulation.

[FR Doc. 2011-18757 Filed 7-22-11; 8:45 am]

BILLING CODE 7590-01-P